Title 3—

The President

Presidential Determination No. 2004-40 of July 21, 2004

Eligibility of Iraq to Receive Defense Articles and Services Under the Foreign Assistance Act of 1961, as Amended, and the Arms Export Control Act, as Amended

Memorandum for the Secretary of State

Pursuant to the authority vested in me by the Constitution and the laws of the United States, including section 503(a) of the Foreign Assistance Act of 1961, as amended, and section 3(a)(1) of the Arms Export Control Act, as amended, I hereby find that the furnishing of defense articles and services to Iraq will strengthen the security of the United States and promote world peace.

You are authorized and directed to report this finding to the Congress and to publish it in the Federal Register.

B

THE WHITE HOUSE,

Washington, July 21, 2004.

[FR Doc. 04-17783

Filed 8-2-04; 8:45 am]

Billing code 4710-10-P